DEPARTMENT OF LABOR

Employment and Training Administration

[TA-W-56,104]

Pentair Pump, South Plant (Hydromatic), Subsidiary of Pentair, Inc., Ashland, OH; Notice of Termination of Certification

This notice terminates the Certification Regarding Eligibility To Apply for Worker Adjustment Assistance and Alternative Trade Adjustment Assistance issued by the Department on January 7, 2005, applicable to all workers of Pentair Pump, South Plant (Hydromatic), Subsidiary of Pentair, Inc., Ashland, Ohio. The notice will soon be published in the Federal Register.

The Department, at the request of the State agency, reviewed the certification for workers of the subject firm engaged in the production of sump and sewage water pumps.

The State agency informed the Department that the worker group is covered by an existing certification, TA-W-51,215, that was issued on April 28, 2003. A review of the files shows that the petition certification for TA-W-51,215 was issued under the company name Hydromatic Pump in Ashland, Ohio, and remains in effect through April 28, 2005.

Since the workers are currently covered by a certification and are eligible to apply for trade adjustment assistance, the Department is terminating the certification for TA-W-56,104.

The petitioners are encouraged to file a new petition when the existing certification is nearing expiration.

Since the basis for the certification is no longer valid, continuation of this certification would serve no purpose and the certification for workers of Pentair Pump, South Plant (Hydromatic), Subsidiary of Pentair, Inc., Ashland, Ohio, has been terminated.

Signed at Washington, DC, this 21st day of January 2005.
Linda G. Poole,
Certifying Officer, Division of Trade Adjustment Assistance.

[FR Doc. E5-458 Filed 2-4-05; 8:45 am]

BILLING CODE 4510-30-P